Title 3—

The President

Executive Order 14360 of November 14, 2025

Modifying the Scope of the Reciprocal Tariffs With Respect to Certain Agricultural Products

By the authority vested in me as President by the Constitution and the laws of the United States of America, including the International Emergency Economic Powers Act (50 U.S.C. 1701 et seq.) (IEEPA), the National Emergencies Act (50 U.S.C. 1601 et seq.), section 604 of the Trade Act of 1974, as amended (19 U.S.C. 2483), and section 301 of title 3, United States Code, it is hereby ordered:

Section 1. Background. In Executive Order 14257 of April 2, 2025 (Regulating Imports With a Reciprocal Tariff To Rectify Trade Practices That Contribute to Large and Persistent Annual United States Goods Trade Deficits), I found that conditions reflected in large and persistent annual U.S. goods trade deficits, including the consequences of those deficits, constitute an unusual and extraordinary threat to the national security and economy of the United States that has its source in whole or substantial part outside the United States. I declared a national emergency with respect to that threat, and to deal with that threat, I imposed certain ad valorem duties that I deemed necessary and appropriate. In Annex II to Executive Order 14257, I set forth a list of certain goods that, in my judgment, should not be subject to the ad valorem rates of duty imposed pursuant to that order.

In Executive Order 14346 of September 5, 2025 (Modifying the Scope of Reciprocal Tariffs and Establishing Procedures for Implementing Trade and Security Agreements), I modified the scope of products subject to the reciprocal tariff imposed under Executive Order 14257, as amended, and I issued an updated version of Annex II to Executive Order 14257.

I have received additional information and recommendations from various officials who, pursuant to my direction, have been monitoring the circumstances involving the emergency declared in Executive Order 14257. After considering the information and recommendations these officials have provided to me, the status of negotiations with various trading partners, current domestic demand for certain products, and current domestic capacity to produce certain products, among other things, I have determined that it is necessary and appropriate to further modify the scope of products subject to the reciprocal tariff imposed under Executive Order 14257, as amended. Specifically, I have determined that certain agricultural products shall not be subject to the reciprocal tariff imposed under Executive 14257, as amended. Accordingly, updated versions of Annex II to Executive Order 14257, as amended, and the Annex to Executive Order 14346 entitled, “Potential Tariff Adjustments for Aligned Partners,” are attached to this order and shall be effective with respect to goods entered for consumption, or withdrawn from warehouse for consumption, on or after 12:01 a.m. eastern standard time on November 13, 2025. In my judgment, these modifications are necessary and appropriate to deal with the national emergency declared in Executive Order 14257.

Sec. 2. Updating Scope of Duties Globally. The Harmonized Tariff Schedule of the United States shall be modified as provided in Annex I to this order. The modifications shall be effective with respect to goods entered for consumption, or withdrawn from warehouse for consumption, on or after 12:01 a.m. eastern standard time on November 13, 2025. To the extent that implementation of this order requires a refund of duties collected, refunds shall be processed pursuant to applicable law and the standard procedures of U.S. Customs and Border Protection for such refunds.

Sec. 3. Implementation. (a) The Secretary of Commerce and the United States Trade Representative shall continue to monitor the circumstances involving the emergency declared in Executive Order 14257 and shall regularly consult on such circumstances with any senior official they deem appropriate. The Secretary of Commerce and the United States Trade Representative shall inform me of any circumstance that, in their opinion, might indicate the need for further action by the President.

(b) Consistent with applicable law, the Secretary of Commerce, the Secretary of Homeland Security, and the United States Trade Representative are directed and authorized to take such actions, including adopting rules, regulations, or guidance, and to employ all powers granted to the President, including those granted by IEEPA, as may be necessary to implement and effectuate this order. The Secretary of Commerce, the Secretary of Homeland Security, and the United States Trade Representative, consistent with applicable law, may redelegate any of these functions within their respective department or agency. All executive departments and agencies shall take all appropriate measures within their authority to implement this order.

Sec. 4. Severability. If any provision of this order, or the application of any provision to any individual or circumstance, is held to be invalid, the remainder of this order and the application of its other provisions to any other individuals or circumstances shall not be affected thereby.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the United States Trade Representative.

THE WHITE HOUSE,

November 14, 2025.

Billing code 3290-F8-P

[FR Doc. 2025-21203

Filed 11-24-25; 11:15 am]

Billing code 7020-02-C